DEPARTMENT OF VETERANS AFFAIRS

38 CFR Part 51

RIN 2900-AO37

Removal of 30-Day Residency Requirement for Per Diem Payments

AGENCY: Department of Veterans Affairs.

ACTION: Withdrawal of proposed rule.

SUMMARY: The Department of Veterans Affairs (VA) is withdrawing VA's proposed rulemaking, published in the Federal Register on September 27, 2012, which proposed to amend its regulations that govern VA payments to State homes for bed holds on behalf of veterans. Specifically, the regulation proposed to remove a 30-day residency requirement before VA would make such payments. VA received no significant adverse comments concerning the proposed rule or its companion substantially identical direct final rule published on the same date in the Federal Register. In a companion document in this issue of the Federal Register, we are confirming that the direct final rule became effective on November 26, 2012. Accordingly, this document withdraws as unnecessary the proposed rule.

DATES: The proposed rule is withdrawn as of March 26, 2013.

FOR FURTHER INFORMATION CONTACT: Harold Bailey, Program Management Officer (Director of Administration), VA Health Administration Center, Purchased Care (10NB3), Veterans Health Administration, Department of Veterans Affairs, 810 Vermont Ave., NW., Washington, DC 20420; (303) 331-7551. (This is not a toll-free number.)

SUPPLEMENTARY INFORMATION: In a proposed rule published in the Federal Register on September 27, 2012, 77 FR 59354, VA proposed to amend 38 CFR 51.43 to eliminate a requirement that a veteran must have resided in a State home for 30 consecutive days before VA will pay per diem for that veteran when there is no overnight stay. Additionally, VA published a companion substantially identical direct final rule at 77 FR 59318 on the same date. The direct final rule and proposed rule each provided a 30-day comment period that ended on October 29, 2012. No significant adverse comments were received. Members of the general public submitted two comments supporting the rulemaking.

Because no significant adverse comments were received within the comment period, VA is withdrawing the proposed rule as unnecessary. In a companion document in this issue of the Federal Register, VA is confirming the effective date of the direct final rule, RIN 2900-AO36, published at 77 FR 59318.

Signing Authority

The Secretary of Veterans Affairs, or designee, approved this document and authorized the undersigned to sign and submit the document to the Office of the Federal Register for publication electronically as an official document of the Department of Veterans Affairs. John R. Gingrich, Chief of Staff, Department of Veterans Affairs, approved this document on March 20, 2013 for publication.

Dated: March 21, 2013.
Robert C. McFetridge,
Director of Regulation Policy and Management, Office of General Counsel, Department of Veterans Affairs.

[FR Doc. 2013-06829 Filed 3-25-13; 8:45 am]

BILLING CODE 8320-01-P